DEPARTMENT OF TRANSPORTATION

Federal Aviation Administration

14 CFR Part 71

[Docket No. FAA-2004-19405; Airspace Docket No. 2004-ASW-14]

Modification to Class E Airspace; Mena, AR

AGENCY: Federal Aviation Administration (FAA), DOT.

ACTION: Direct final rule; delay of effective dates.

SUMMARY: This action revises the direct final rule; request for comments that was published in the Federal Register on Wednesday, December 15, 2004 (69 FR 74953) (FR Doc. 04-27459). It changes the effective date for the revision of the Class E airspace area at Mena Intermountain Municipal Airport, Mena, AR (M39) to provide adequate controlled airspace for the redesigned Non-Directional Beacon (NDB) and the new Instrument Landing System (ILS) and Localizer (LOC) SIAPs.

DATES: The effective date for the direct final rule published at 69 FR 74953, December 15, 2004, is delayed until 0901 UTC, May 12, 2005.

FOR FURTHER INFORMATION CONTACT: Joseph R. Yadouga, Air Traffic Division, Airspace Branch, Federal Aviation Administration, Southwest Region, Fort Worth, TX 76193-0520; telephone: (817) 222-5597.

SUPPLEMENTARY INFORMATION:

History

Federal Register document 04-27459, published on Wednesday, December 15, 2004 (69 FR 74953), modified the Class E airspace area at Mena Intermountain Municipal Airport, Mena, AR (M39) to provide adequate controlled airspace for the redesigned Non-Directional Beacon (NDB) and the new Instrument Landing System (ILS) and Localizer (LOC) SIAPs.

Accordingly, pursuant to the authority delegated to me, the effective date for the Mena Intermountain Municipal Airport, Mena, AR (M39) Class E airspace, as published in the Federal Register on Wednesday, December 15, 2004 (69 FR 74953) (FR Doc. 04-27459) is delayed until May 12, 2005.

Issued in Fort Worth, TX, on February 24, 2005.
Herman J. Lyons, Jr.,
Area Director, Central En Route and Oceanic Operations.

[FR Doc. 05-4132 Filed 3-10-05; 8:45 am]

BILLING CODE 4910-13-M